DEPARTMENT OF LABOR

Employment and Training Administration

[TA-W-39,436]

Wiegand Appliance Division, Emerson Electric Company, Vernon, AL; Amended Certification Regarding Eligibility To Apply for Worker Adjustment Assistance

In accordance with section 223 of the Trade Act of 1974 (19 U.S.C. 2273) the Department of Labor issued a Certification of Eligibility to Apply for Worker Adjustment Assistance on July 16, 2001, applicable to workers of Wiegand Appliance Division, Emerson Electric Company, Vernon, Alabama. The notice was published in the Federal Register on August 6, 2001 (66 FR 41053).

At the request of a company official, the Department reviewed the certification for workers of the subject firm. The workers were engaged in activities related to the production of electric heating elements until the company closed in July 2003.

New information shows that workers were retained at the subject firm beyond the July 16, 2003, expiration date of the certification. These employees completed the tracking of previous orders to the customers until their termination on July 21, 2003. Based on these findings, the Department is amending the certification to extend the July 16, 2003, expiration date for TA-W-39,436 to read July 21, 2003.

The intent of the Department's certification is to include all workers of Wiegand Appliance Division, Emerson Electric Company who were adversely affected by increased imports.

The amended notice applicable to TA-W-39,436 is hereby issued as follows:

All workers of Wiegand Appliance Division, Emerson Electric Company, Vernon, Alabama, who became totally or partially separated from employment on or after June 1, 2000, through July 21, 2003, are eligible to apply for adjustment assistance under Section 223 of the Trade Act of 1974.

Signed at Washington, DC, this 7th day of August, 2003.
Linda G. Poole,
Certifying Officer, Division of Trade Adjustment Assistance.

[FR Doc. 03-21284 Filed 8-20-03; 8:45 am]

BILLING CODE 4510-30-P